INSTITUTE OF PEACE

Announcement of the Fall 2012 Annual Grant Competition for Immediate Release

AGENCY: United States Institute of Peace.

ACTION: Notice.

SUMMARY: The Agency announces its Annual Grant Competition, which offers support for research, education and training, and the dissemination of information on international peace and conflict resolution. The Annual Grant Competition is open to any project that falls within the Institute's broad mandate of international conflict resolution.

Deadline: October 1, 2012.

Online application available: http://www.usip.org/grants-fellowships/annual-grant-competition.

DATES: Submission of Application: October 1, 2012.

Notification Date: On or around March 31, 2013.

ADDRESSES: United States Institute of Peace, 2301 Constitution Avenue NW., Washington, DC 20037, (202) 429-3842 (phone), (202) 833-1018 (fax), (202) 457-1719 (TTY), Email: grants@usip.org.

FOR FURTHER INFORMATION CONTACT: The Grant Program • Annual Grant Competition Phone (202) 429-3842, Email: grants@usip.org.

Dated: March 22, 2012.
Michael Graham,
Senior Vice President for Management.

[FR Doc. 2012-7319 Filed 3-27-12; 8:45 am]

BILLING CODE 6820-AR-M